DEPARTMENT OF COMMERCE

International Trade Administration

[A-351-826]

Notice of Amended Final Results of Antidumping Duty Administrative Review: Small Diameter Circular Seamless Carbon and Alloy Steel Standard, Line and Pressure Pipe From Brazil

AGENCY: Import Administration, International Trade Administration, Department of Commerce.

SUMMARY: On February 11, 2005, the Department of Commerce (“the Department”) published the final results of its administrative review of the antidumping duty order on small diameter circular seamless carbon and alloy steel standard, line and pressure pipe from Brazil for the period August 1, 2002, through July 31, 2003. See Notice of Final Results of Antidumping Duty Administrative Review: Small Diameter Circular Seamless Carbon and Alloy Steel Standard, Line and Pressure Pipe from Brazil, 70 FR 7243 (February 11, 2005) (“Final Results”). We are amending our Final Results to correct ceratin ministerial errors alleged by the respondent V&M do Brasil, S.A. (“VMB”) pursuant to section 751(h) of the Tariff Act of 1930, as amended (“the Act”).

EFFECTIVE DATE: March 21, 2005.

FOR FURTHER INFORMATION CONTACT: Helen M. Kramer or Patrick Edwards, AD/CVD Operations, Office 7, Import Administration, International Trade Administration, U.S. Department of Commerce, 14th Street and Constitution Avenue, NW., Washington, DC 20230, at (202) 482-0405 or (202) 482-8029, respectively.

SUPPLEMENTARY INFORMATION:

Amendment of Final Results

On February 11, 2005, the Department published the Final Results of the administrative review of the antidumping duty order on small diameter circular seamless carbon and alloy steel standard, line and pressure pipe (“seamless line pipe”) from Brazil. See Final Results. In accordance with section 751(h) of the Act and 19 CFR 351.224(c)(2), on February 14, 2005, both United States Steel Corporation (“petitioner”) and VMB timely filed allegations that the Department made ministerial errors in the final results. On February 22, 2005, we received comments from both the petitioner and respondent, rebutting each party's alleged ministerial errors. In accordance with section 751(h) of the Act, we have determined that certain ministerial errors were made in our Final Results margin calculations. For a detailed discussion of the ministerial error allegations, rebuttals and the Department's analysis, see Memorandum to Richard O. Weible, Director, through Abdelali Elouaradia, Program Manager, from Helen M. Kramer and Patrick S. Edwards, Case Analysts, regarding “Antidumping Duty Administrative Review of Small Diameter Circular Carbon and Alloy Steel Standard, Line and Pressure Pipe from Brazil; Alleged Ministerial Errors in the Final Results,” dated March 14, 2005, which is on file in the Central Records Unit (“CRU”), room B-099 of the main Department building.

In accordance with section 751(h) of the Act and 19 CFR 351.224(e), we are amending the final results of the antidumping duty administrative review of seamless line pipe from Brazil to correct these ministerial errors.

The revised weighted-average dumping margin for the period August 1, 2002, through July 31, 2003, are listed below:

Manufacturer/exporter | Revised margin (percent)
V&M do Brasil, S.A | 7.96

Cash Deposit Rates

The following antidumping duty deposits will be required on all shipments of seamless line pipe products from Brazil entered, or withdrawn from warehouse, for consumption, effective on or after the publication date of the amended final results of this administrative review, as provided by section 751(a)(1) of the Act: (1) The cash deposit rate for the reviewed company will be the rate listed above; (2) for previously reviewed or investigated companies not listed above, the cash deposit rate will continue to be the company-specific rate published for the most recent period; (3) if the exporter is not a firm covered in this review, the previous review, or the original investigation, but the manufacturer is, the cash deposit rate will be the rate established for the most recent period for the manufacturer of the merchandise; and (4) if neither the exporter nor the manufacturer is a firm covered in this or any previous reviews, the cash deposit rate will be 124.94 percent, the “All Others” rate established in the less-than-fair-value investigation. These cash deposit requirements shall remain in effect until publication of the final results of the next administrative review.

Assessment Rates

In accordance with section 19 CFR 356.8(a), the Department will issue appropriate assessment instructions directly to U.S. Customs and Border Protection (CBP) on or after 41 days following the publication of these amended final results of review to effect the Final Results and these amended final results.

We are issuing and publishing these amended final results and notice in accordance with sections 751(a)(1), 751(h) and 771(i) of the Act.

Dated: March 14, 2005.
Joseph A. Spetrini,
Acting Assistant Secretary for Import Administration.

[FR Doc. E5-1223 Filed 3-18-05; 8:45 am]

BILLING CODE 3510-DS-P